DEPARTMENT OF COMMERCE

U.S. Census Bureau

Proposed Information Collection; Comment Request; State Government Research and Development (R&D) Survey

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before December 24, 2012.

ADDRESSES: Direct all written comments to Jennifer Jessup, Departmental Paperwork Clearance Officer, Department of Commerce, Room 6616, 14th and Constitution Avenue NW, Washington, DC 20230 (or via the Internet at jjessup@doc.gov).

FOR FURTHER INFORMATION CONTACT: Requests for additional information or copies of the information collection instrument(s) and instructions should be directed to Lisa McNelis, U.S. Census Bureau, Governments Division, 4600 Silver Hill Road, Washington, DC 20233-6800; (301) 763-7344.

SUPPLEMENTARY INFORMATION:

I. Abstract

The National Science Foundation (NSF) and the United States Census Bureau plan to continue to conduct the biennial State Government Research and Development Survey (SGRD) to measure research and development supported and performed by state governments in the United States. This survey is a joint effort between the NSF and the Census Bureau. The NSF Act of 1950 includes a statutory charge to “provide a central clearinghouse for the collection, interpretation, and analysis of data on scientific and engineering resources and to provide a source of information for policy formulation by other agencies in the Federal Government.” Under the aegis of this legislative mandate, the NSF sponsored surveys of research and development since 1953, including since 2006 the State Government R&D Survey. The Census Bureau's authority to undertake this work is found at 13 U.S.C. 8(b) which provides that the Census Bureau “may make special statistical compilations and surveys for departments, agencies, and establishments of the Federal government, the government of the District of Columbia, the government of any possession or area (including political subdivisions thereof) * * * State or local agencies, or other public and private persons and agencies.”

The State Government Research and Development Survey is the only comprehensive source of research and development expenditure data collected on a nationwide scale using uniform definitions, concepts, and procedures. The collection covers the expenditures of all agencies in the fifty state governments, the District of Columbia, and Puerto Rico that conduct research and development. The NSF has coordinated with the Census Bureau for the data collection. The NSF uses this collection to satisfy its need to collect research and development expenditures data.

Fiscal data provided by respondents aid data users in measuring the effectiveness of resource allocation. The products of this data collection make it possible for data users to obtain information on such things as expenditures according to source of funding, by performer of the work (i.e., internal and external to state agencies), by type (e.g., agriculture, energy, health, transportation, etc), by character of work (i.e., basic research, applied research, or development), and by R&D plant (e.g., construction projects). Final results produced by the NSF contain state and national estimates useful to a variety of data users interested in research and development performance including: the National Science Board; the Office of Management and Budget; the Office of Science and Technology Policy and other science policy makers; institutional researchers; and private organizations.

The survey announcements and forms used in the research and development survey are:

Survey Announcement. The Governor's letter is mailed to solicit the Governor's Office to announce the survey collection and for assignment of a State Coordinator to facilitate the assistance of the state agencies. The State Coordinator's Announcement is sent electronically at the beginning of each survey period with information regarding their role in facilitating their state agency responses and data submissions. It establishes the conditions by which the state agencies provide their research and expenditure data to the Census Bureau.

Form SRD-1. This form contains item descriptions and definitions of the research and development items collected jointly by the Census Bureau and the NSF. It is used primarily as a worksheet and instruction guide by the state agencies providing research and development expenditure data in their respective states. All states supply their data by electronic means.

II. Method of Collection

The Census Bureau collects all of the research and development expenditure data from approximately 500 state agencies facilitated by a State Coordinator appointed by their Governor. Once an agency completes and submits their data to the State Coordinator, the State Coordinator reviews and submits this information to the Census Bureau in electronic format over the Internet via file transfer protocol.

III. Data

OMB Control Number: 0607-0933.

Form Number: SRD-1.

Type of Review: Regular submission.

Affected Public: State Government Agencies.

Estimated Number of Respondents: 52 state coordinators and 500 State agencies.

Estimated Time Per Response: 4 hours for every state coordinator and 1 hour and 45 minutes for every state agency.

Estimated Total Annual Burden Hours: 542.

Estimated Total Annual Cost: $19,000.

Respondents Obligation: Voluntary.

Authority: U.S. Code: 42 U.S.C. 1862: “National Science Foundation Act of 1950”as amended. Title 13, U.S.C., 8 (b), 161, and 182. Title 15 United States Code, 1525.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 19, 2012.
Glenna Mickelson,
Management Analyst, Office of the Chief Information Officer.

[FR Doc. 2012-26186 Filed 10-23-12; 8:45 am]

BILLING CODE 3510-07-P